ENVIRONMENTAL PROTECTION AGENCY

[EPA-HQ-OPP-2005-0265; FRL-8815-8]

Dicloran; Cancellation Order for Amendment to Terminate a Use of DCNA Pesticide Registrations

AGENCY: Environmental Protection Agency (EPA).

ACTION: Notice.

SUMMARY: This notice announces EPA's order for the label amendment, which was voluntarily requested by the registrant and accepted by the Agency, to terminate use on carrots for pesticide registrations listed in Table 1 in Unit II. pursuant to section 6(f)(1) of the Federal Insecticide, Fungicide, and Rodenticide Act (FIFRA), as amended. This cancellation order follows a December 2, 2009 (74 FR 63151) Federal Register Notice of Receipt of Request from the registrant listed in Table 2 in Unit II. to voluntarily amend to terminate dicloran (DCMA) use on carrots. In its December 2, 2009 Notice, EPA indicated that it would issue an order implementing the cancellation and amendment to terminate the use on carrot, unless the Agency received substantive comments within the 30-day comment period that would merit its further review of these requests, or unless the registrant withdrew their request within this period. The 30-day comment period ended on January 4, 2010, at which time the Agency did not receive any comments on the notice. Further, the registrant did not withdraw their request. Accordingly, EPA hereby issues in this notice a cancellation order granting the requested use termination. Any distribution, sale, or use of the products subject to this cancellation order is permitted only in accordance with the terms of this order, including any existing stocks provisions.

DATES: The cancellations are effective as published in the Federal Register on November 2, 2010.

FOR FURTHER INFORMATION CONTACT: James Parker, Pesticides Re-evaluation Division (7508P) , Office of Pesticide Programs, Environmental Protection Agency, 1200 Pennsylvania Ave., NW., Washington, DC 20460-0001; telephone number: (703) 306-0469; fax number: (703) 308-7070; e-mail address: parker.james@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

EPA has established a docket for this action under docket identification (ID) number EPA-HQ-OPP-2005-0265. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Action is the Agency Taking?

This notice announces the amendment to terminate use on carrots, as requested by registrants, of products registered under section 3 of FIFRA. The affected registrations are listed in sequence by registration number in Table 1 of this unit.

Table 1.—Dicloran Registration with Carrot Use Cancellation
EPA Registration Number | Product Name
10163-189 | Botran 75-W Fungicide
10163-195 | Botran Technical
10163-226 | Botran 5-F Fungicide

Table 2 of this unit includes the names and addresses of record for the registrant of the products in Table 1 of this unit, in sequence by EPA company number.

Table 2.—Registrants of Cancelled And Amended Use
EPA Company Number | Company Name and Address
10163 | Gowan Company P.O. Box 5569 Yuma, AZ 85366-5569

III. Summary of Public Comments Received and Agency Response to Comments

During the public comment period provided, EPA received no comments in response to the December 2, 2009 Federal Register notice announcing the Agency's receipt of the request for voluntary cancellation and amendment to terminate use on carrots of products listed in Table 1 in Unit II.

IV. Cancellation Order

Pursuant to FIFRA section 6(f), EPA hereby approves the requested amendment to terminate the carrot use of dicloran registrations identified in Table 1 in Unit II. Accordingly, the Agency for product registrations identified in Table 1 in Unit II. Any distribution, sale, or use of existing stocks of the products identified in Table 1 in Unit II. in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

EPA’s existing stocks policy (56 FR 29362) provides that: “If a registrant requests to voluntarily cancel a registration where the Agency has identified no particular risk concerns, the registrant has complied with all applicable conditions of reregistration, conditional registration, and data call ins, and the registration is not subject to a Registration Standard, Label Improvement Program, or reregistration decision, the Agency will generally permit a registrant to sell or distribute existing stocks for 1 year after the cancellation request was received. Persons other than registrants will generally be allowed to sell, distribute, or use existing stocks until such stocks are exhausted.”

Existing stocks are those stocks of registered pesticide products which are currently in the United States and which were packaged, labeled, and released for shipment prior to the effective date of the cancellation action. The effective date of this use cancellation is November 2, 2010. The cancellation order that is the subject of this notice includes the following existing stock provisions:

The registrant may sell and distribute existing stocks of products listed in Table 1 in Unit II. until November 2, 2010. Persons other than the registrant may sell and distribute existing stocks of products listed in Table 1 in Unit II. until exhausted. Use of the products listed in Table 1 in Unit II. may be exhausted, provided that such use is consistent with the terms of the previously approved labeling on, or that accompanied, the canceled product.

List of Subjects

Environmental protection, Pesticides and pests.

Dated: March 16, 2010.
Richard P. Keigwin, Jr.,
Director, Pesticides Re-evalution Division, Office of Pesticide Programs.

[FR Doc. 2010-6887 Filed 3-30-10; 8:45 am]

BILLING CODE 6560-50-S